DEPARTMENT OF HEALTH AND HUMAN SERVICES

National Institutes of Health

Government-Owned Inventions; Availability for Licensing

AGENCY: National Institutes of Health, HHS.

ACTION: Notice.

SUMMARY: The inventions listed below are owned by an agency of the U.S. Government and are available for licensing in the U.S. to achieve expeditious commercialization of results of federally-funded research and development.

FOR FURTHER INFORMATION CONTACT: Licensing information may be obtained by emailing the indicated licensing contact at the National Heart, Lung, and Blood, Office of Technology Transfer and Development Office of Technology Transfer, 31 Center Drive, Room 4A29, MSC2479, Bethesda, MD 20892-2479; Michael Shmilovich; shmilovm@nih.gov; telephone: 301-435-5019. A signed Confidential Disclosure Agreement may be required to receive any unpublished information.

SUPPLEMENTARY INFORMATION: Technology description follows.

Sulfur and Selenium Containing Cannabinoid Receptor Modulating Compounds

Available for licensing and commercial development are sulfur- and selenium-containing pyrazole molecules for potentially treating metabolic disorders, psychiatric disorders, neurological disorders, pain disorders, gastrointestinal disorders, cancers, inflammation-related disorders, substance abuse associated pathologies, and other conditions using the same. The filed provisional patent application includes extensive descriptions of the exemplary molecules and their various constituents. Therapeutic targets of said molecules include but are not limited to the cannabinoids 1 receptor, the cannabinoid 2 receptor, GPR55, GPR18, or GPR119. The rights pursued claim compounds, pharmaceutical compositions, and methods of use.

Potential Commercial Applications:

• Pharmaceuticals

• Cancer therapy

• Inflammatory and autoimmune disease

Development Stage:

• Early stage

Inventors: Malliga R. Iyer, Ph.D. (NIAAA).

Intellectual Property: HHS Reference No. E-190-2021-0; U.S. Provisional Patent Application No. 63/265,225 filed December 10, 2021.

Licensing Contact: Michael Shmilovich; 301-435-5019; michael.shmilovich@nih.gov.

Dated: January 20, 2022.
Michael A. Shmilovich,
Senior Licensing and Patenting Manager, National Heart, Lung, and Blood Institute, Office of Technology Transfer and Development.

[FR Doc. 2022-01517 Filed 1-25-22; 8:45 am]

BILLING CODE 4140-01-P